DEPARTMENT OF STATE

[Public Notice: 8700]

Application by Plains Pipeline, L.P. for Issuance of a Presidential Permit To Operate and Maintain Existing Pipeline Facilities on the Border of the United States and Canada

AGENCY: Department of State.

ACTION: Extension of Comment Period Regarding an Application by Plains Pipeline, L.P. for Issuance of a Presidential Permit to Operate and Maintain Existing Pipeline Facilities on the Border of the United States and Canada.

SUMMARY: Due to technical difficulties with the submission of public comments through regulations.gov pertaining to Public Notice 8640, published on February 20, 2014 (79 FR 9786), the Department of State is extending the period for public comment that began on February 20 with regard to whether issuing a Presidential Permit to Plains Pipeline to operate and maintain a portion of the Poplar Pipeline (formerly the Wascana Pipeline) in Sheridan County, Montana would serve the national interest.

DATES: Interested parties are invited to submit comments not later than 30 days from the date of this publication with regard to whether issuing a new Presidential Permit to Plains Pipeline would serve the national interest.

ADDRESSES: To submit comments, go to the Federal eRulemaking Portal (http://www.regulations.gov), enter the Docket No. DOS-2014-0009 and follow the prompts.

Comments are not private. They will be posted on the site http://www.regulations.gov. The comments will not be edited to remove identifying or contact information, and the State Department cautions against including any information that one does not want publicly disclosed. The State Department requests that any party soliciting or aggregating comments received from other persons for submission to the State Department inform those persons that the State Department will not edit their comments to remove identifying or contact information, and that they should not include any information in their comments that they do not want publicly disclosed.

FOR FURTHER INFORMATION CONTACT: Office of Energy Diplomacy, Energy Resources Bureau (ENR/EDP/EWA) Department of State, 2201 C St. NW., Ste. 4843, Washington, DC 20520, Attn: Michael Brennan Tel: 202-647-7553.

SUPPLEMENTARY INFORMATION: As indicated in Public Notice 8640, on December 20, 2013, the Department of State (DOS) received from Plains Pipeline, L.P. (“Plains Pipeline”) notice that it has acquired the rights to operate and maintain a portion of the Poplar Pipeline in Sheridan County, Montana that is currently permitted under a 2007 Presidential Permit issued in the name of two Plains Pipeline affiliates: PMC (Nova Scotia) Company and Plains Marketing Canada L.P., collectively (“PMC”). Plains Pipeline requests that a Presidential Permit be issued in its name with respect to the pipeline facilities.

Plains Pipeline is a subsidiary of Plains All American Pipeline, L.P. (Plains), a publically traded master limited partnership with headquarters in Houston, Texas. Plains is engaged in the transportation, storage, and marketing of crude oil, refined products, and natural gas-related petroleum products.

The current Permit, issued in 2007 to PMC (Nova Scotia) Company and Plains Marketing Canada L.P., covers the 56.8-mile long Poplar Pipeline, previously called the Wascana Pipeline, which extends from the Murphy Oil terminal northeast of Poplar, Montana, to the international border near Raymond, Montana, and which was constructed pursuant to authorization in a 1972 Permit issued to Wascana Pipeline Corp. Plains Pipeline has acquired an approximately 6.4-mile segment of the Poplar Pipeline extending from Raymond Station to the international border, repaired and replaced portions of the pipeline in that area, and installed two block valves. Plains Pipeline has submitted an application for a new Presidential Permit in its name and requests that the new Permit cover approximately 85 feet of pipeline facilities extending from a new block valve to the international border. Plains Pipeline has reported that it has separately constructed the Bakken North pipeline that extends from Trenton, North Dakota to Raymond Station, and that it intends to interconnect the Bakken North with the Poplar Pipeline in order to use the Poplar Pipeline border crossing to transport the Bakken North crude into Canada.

Plains Pipeline has stated that, upon returning the upgraded pipeline facilities to service under the 2007 Presidential Permit, Plains Pipeline will continue to operate the acquired facilities for the same purpose of transporting crude oil between the United States and Canada. It has further stated that the acquired pipeline facilities and the operation and maintenance thereof authorized by the 2007 Permit will remain substantially the same as before the transfer of the facilities to Plains Pipeline. Plains Pipeline is not seeking authorization for new construction or a change in operations.

Under E.O. 13337, the Secretary of State is designated and empowered to receive all applications for Presidential Permits for the construction, connection, operation, or maintenance at the borders of the United States of facilities for the exportation or importation of liquid petroleum, petroleum products, or other fuels (except natural gas) to or from a foreign country. The Department of State is circulating this application to concerned federal agencies for comment. The Department of State has the responsibility to determine whether issuance of a new Presidential Permit in light of Plains' acquisition and continued operation of the pipeline facilities would serve the U.S. national interest.

Plains Pipeline's application is available at http://www.state.gov/e/enr/applicant.

Date: April 11, 2014.
Michael Brennan,
Energy Officer, Office of Europe, Western Hemisphere and Africa, Bureau of Energy Resources, U.S. Department of State.

[FR Doc. 2014-08916 Filed 4-17-14; 8:45 am]

BILLING CODE 4710-07-P